DEPARTMENT OF ENERGY

Federal Energy Regulatory Commission

[Project No. 7590-010]

Nashua Hydro Associates, City of Nashua, New Hampshire; Notice of Transfer of Exemption

1. By letter filed January 23, 2015, the City of Nashua, New Hampshire informed the Commission that the exemption from licensing for the Jackson Mills Project, FERC No. 7590, originally issued April 24, 1984,¹ has been transferred from Nashua Hydro Associates to the City of Nashua, New Hampshire. The project is located on the Nashua River in Hillsborough County, New Hampshire. The transfer of an exemption does not require Commission approval.

¹ 27 FERC ¶ 62,078, Order Granting Exemption From Licensing of a Small Hydroelectric Project of 5 Megawatts or Less.

2. The City of Nashua, New Hampshire is now the exemptee for the Jackson Mills Project, FERC No. 7590. All correspondence should be forwarded to: Ms. Sarah Marchant, Division Director, City of Nashua, New Hampshire, Community Development Division, 229 Main Street, Nashua, New Hampshire 03060.

Dated: February 19, 2015.
Kimberly D. Bose,
Secretary.

[FR Doc. 2015-03998 Filed 2-25-15; 8:45 am]

BILLING CODE 6717-01-P